DEPARTMENT OF THE INTERIOR

[FWS-R4-FHC-2016-N176; FVHC98220410150-XXX-FF04G01000]

Deepwater Horizon Oil Spill; Louisiana Trustee Implementation Group Draft Restoration Plan #1: Restoration of Wetlands, Coastal, and Nearshore Habitats; Habitat Projects on Federally Managed Lands; and Birds

AGENCY: Department of the Interior.

ACTION: Notice of availability; request for comments.

SUMMARY: In accordance with the Oil Pollution Act of 1990 (OPA), the National Environmental Policy Act (NEPA), the Consent Decree, and the Final Programmatic Damage Assessment Restoration Plan and Final Programmatic Environmental Impact Statement (Final PDARP/PEIS), the Federal and State natural resource trustee agencies for the Louisiana Trustee Implementation Group (Trustees) have prepared a Draft Restoration Plan #1: Restoration of Wetlands, Coastal, and Nearshore Habitats; Habitat Projects on Federally Managed Lands; and Birds (Draft Restoration Plan 1) describing and proposing engineering and design activities for restoration projects intended to continue the process of restoring natural resources and services injured or lost as a result of the Deepwater Horizon oil spill, which occurred on or about April 20, 2010, in the Gulf of Mexico.

DATES: Comments Due Date: We will consider public comments received on or before November 28, 2016.

Public Meeting: If requested, the Trustees will schedule a public meeting to facilitate public review and comment process on the draft document.

ADDRESSES: Obtaining Documents: You may download the Louisiana Trustee Implementation Group Draft Restoration Plan 1: Restoration of Wetlands, Coastal, and Nearshore Habitats, Habitat Projects on Federally Managed Lands, and Birds draft restoration plan at any of the following sites:

• http://www.gulfspillrestoration.noaa.gov

• http://www.doi.gov/deepwaterhorizon

• http://www.la-dwh.com

Alternatively, you may request a CD of the Draft Restoration Plan 1 (see FOR FURTHER INFORMATION CONTACT). You may also view the document at any of the public facilities listed at http://www.gulfspillrestoration.noaa.gov.

Submitting Comments: You may submit comments on the draft document by one of following methods:

• Via the Web: http://www.gulfspillrestoration.noaa.gov/restoration-areas/louisiana.

• Via U.S. Mail: U.S. Fish and Wildlife Service, P.O. Box 49567, Atlanta, GA 30345.

• Louisiana Coastal Protection & Restoration Authority, ATTN: Liz Williams, P.O. Box 44027, Baton Rouge, LA 70804.

FOR FURTHER INFORMATION CONTACT: Liz Williams at LATIG@la.gov.

SUPPLEMENTARY INFORMATION:

Introduction

On or about April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Deepwater Horizon State and Federal natural resource trustees (Trustees) conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete. The Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (USEPA);

• State of Louisiana Coastal Protection and Restoration Authority (CPRA), Oil Spill Coordinator's Office (LOSCO), Department of Environmental Quality (LDEQ), Department of Wildlife and Fisheries (LDFW), and Department of Natural Resources (LDNR);

• State of Mississippi Department of Environmental Quality;

• State of Alabama Department of Conservation and Natural Resources and Geological Survey of Alabama;

• State of Florida Department of Environmental Protection and Fish and Wildlife Conservation Commission; and

• For the State of Texas: Texas Parks and Wildlife Department, Texas General Land Office, and Texas Commission on Environmental Quality.

Upon completion of the NRDA, the Trustees reached and finalized a settlement of their natural resource damage claims with BP in a Consent Decree approved by the United States District Court for the Eastern District of Louisiana. Pursuant to that Consent Decree, restoration projects in Louisiana are now chosen and managed by the Louisiana Trustee Implementation Group (TIG). The Louisiana TIG is composed of the following Trustees:

• U.S. Department of the Interior (DOI), as represented by the National Park Service,

U.S. Fish and Wildlife Service, and Bureau of Land Management;

• National Oceanic and Atmospheric Administration (NOAA), on behalf of the U.S. Department of Commerce;

• U.S. Department of Agriculture (USDA);

• U.S. Environmental Protection Agency (USEPA);

• Louisiana Coastal Protection and Restoration Authority (CPRA);

• Louisiana Department of Natural Resources (LDNR);

• Louisiana Department of Environmental Quality (LDEQ);

• Louisiana Oil Spill Coordinator's Office (LOSCO); and,

• Louisiana Department of Wildlife and Fisheries (LDWF)

Overview of the Louisiana TIG Draft Restoration Plan 1: Restoration of Wetlands, Coastal, and Nearshore Habitats, Habitat Projects on Federally Managed Lands, and Birds (Draft Restoration Plan 1)

The Draft Restoration Plan 1 is being released in accordance with the Oil Pollution Act (OPA), the Natural Resources Damage Assessment (NRDA) regulations found in the Code of Federal Regulations (CFR) at 15 CFR 990, the National Environmental Policy Act (42 U.S.C. 4321 et seq.), the Consent Decree, and the Final PDARP/PEIS.

The total estimated cost for the proposed engineering and design activities for the six proposed restoration projects is $22,300,000. Details on the proposed engineering and design activities for the restoration projects are provided in the draft restoration plan.

Next Steps

As described above, the Trustees will consider holding public meetings to facilitate the public review and comment process, if requested. After the public comment period ends, the Trustees will consider and address the comments received before issuing a final restoration plan.

Consistent with the PDARP/PEIS, in this Draft Restoration Plan 1 the Louisiana TIG is proposing a preliminary phase of restoration planning to perform engineering and design evaluation for restoration projects to develop information needed to fully consider the implementation phase which will be proposed in a subsequent restoration plan. Although information gathered may inform future projects, the outcome of the preliminary phases does not commit the Trustees to future actions.

Invitation to Comment

The Trustees seek public review and comment on the proposed projects and supporting analysis included in the Draft Restoration Plan 1. Before including your address, phone number, email address, or other personal identifying information in your comment, you should be aware that your entire comment, including your personal identifying information, may be made publicly available at any time.

Administrative Record

The documents comprising the Administrative Record for this Draft Restoration Plan can be viewed electronically at http://www.doi.gov/deepwaterhorizon.

Authority

The authority of this action is the Oil Pollution Act of 1990 (33 U.S.C. 2701 et seq.) and the implementing Natural Resource Damage Assessment regulations found at 15 CFR part 990.

Kevin D. Reynolds,
Department of the Interior Deepwater Horizon Case Manager.

[FR Doc. 2016-26345 Filed 10-31-16; 8:45 am]

BILLING CODE 4333-15-P